DEPARTMENT OF THE INTERIOR

Office of Surface Mining Reclamation and Enforcement

30 CFR Part 800

[Docket ID: OSM-2016-0006; S1D1S SS08011000 SX064A000 167S180110; S2D2S SS08011000 SX064A000 16XS501520]

Petition To Initiate Rulemaking; Ensuring That Companies With a History of Financial Insolvency, and Their Subsidiary Companies, Are Not Allowed To Self-Bond Coal Mining Operations

AGENCY: Office of Surface Mining Reclamation and Enforcement, Interior.

ACTION: Notice; extension of comment period.

SUMMARY: We, the Office of Surface Mining Reclamation and Enforcement (OSMRE), are announcing a 30-day extension of the comment period on a petition, submitted pursuant to the Surface Mining Control and Reclamation Act, (SMCRA or the Act), requesting that we amend our self-bonding regulations to ensure that companies with a history of financial insolvency, and their subsidiary companies, are not allowed to self-bond coal mining operations. We are requesting comments on the merits of the petition and the rule changes suggested in the petition. Comments received will assist the Director of OSMRE in making the decision whether to grant or deny the petition.

DATES: The comment period for the proposed rule published May 20, 2016 (81 FR 31880) is extended. Electronic or written comments: We will accept written comments on the petition that are received on or before July 20, 2016.

ADDRESSES: You may submit comments by any of the following methods:

Federal eRulemaking Portal: http://www.regulations.gov. The petition has been assigned Docket ID: OSM-2016-0006. Please follow the online instructions for submitting comments.

Mail/Hand-Delivery/Courier: Office of Surface Mining Reclamation and Enforcement, Administrative Record, Room 252 SIB, 1951 Constitution Avenue NW., Washington, DC 20240. Please include the Docket ID: OSM-2016-0006.

FOR FURTHER INFORMATION CONTACT: Michael Kuhns, Division of Regulatory Support, 1951 Constitution Ave. NW., Washington, DC 20240; Telephone: 202-208-2860; Email: mkuhns@osmre.gov.

SUPPLEMENTARY INFORMATION: On May 20, 2016, we published a notice seeking comments from the public on the proposed change specified in the petition. 81 FR 31880 (May 20, 2016). Specifically, the petition requests that we amend our self-bonding regulations at 30 CFR 800.23 to ensure that companies with a history of financial insolvency, and their subsidiary companies, are not allowed to self-bond coal mining operations.

The original comment period is scheduled to close on June 20, 2016. However, we received a request that we extend the comment period to allow additional time to review the petition and provide informed comments on a complex issue. After reviewing the request, we are extending the deadline for submission of comments by 30 days in order to ensure that potentially impacted parties have an adequate opportunity to comment. The comment period will now close on July 20, 2016.

The petition and exhibits can be viewed and downloaded at http://www.regulations.gov. The petition has been assigned Docket ID: OSM-2016-0006. The petition and exhibits also are available for inspection at the location listed under ADDRESSES.

We will review and consider all comments submitted to the addresses listed above (see ADDRESSES) by the close of the comment period (see DATES).

Please include the Docket ID “OSM-2016-0006” at the beginning of all written comments. We cannot ensure that comments received after the close of the comment period (see DATES) or at locations other than those listed above (see ADDRESSES) will be included in the docket or considered in the development of a proposed rule.

Before including your address, phone number, or other personal identifying information in your comment, you should be aware that your entire comment—including your personal identifying information—may be made publicly available at any time. While you can ask us in your comment to withhold your personal identifying information from public review, we cannot guarantee that we will be able to do so.

Dated: June 14, 2016.
Joseph G. Pizarchik,
Director, Office of Surface Mining Reclamation and Enforcement.

[FR Doc. 2016-14525 Filed 6-17-16; 8:45 am]

BILLING CODE 4310-05-P